DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Active MRI Compatible and Visible iMRI Catheter

Ozgur Kocaturk (NHLBI).

U.S. Provisional Application No. 60/716,503 filed 14 Sep 2005 (HHS Reference No. E-298-2005/0-US-01).

Licensing Contact: Chekesha Clingman; 301/435-5018; clingmac@mail.nih.gov.

Interventional magnetic resonance imaging (iMRI) has gained important popularity in many fields such as interventional cardiology and radiology, owing to the development of minimally invasive techniques and visible catheters under MRI for conducting MRI-guided procedures and therapies. This invention relates to a novel MRI compatible and active visible catheter for conducting interventional and intraoperative procedures under the guidance of MRI. The catheter features a non conductive transmission line and the use of ultrasonic transducers that transform RF signals to ultrasonic signals for transmitting RF signal to the MRI scanner. The unique design of this catheter overcomes the concern of patient/sample heating (due to the coupling between RF transmission energy and long conductors within catheter) associated with the design of conventional active MRI catheters.

In addition to licensing, the technology is available for further development through collaborative research opportunities with the inventors.

Bioreactor Device and Method and System for Fabricating Tissue

Juan M. Taboas (NIAMS), Rocky S. Tuan (NIAMS), et al.

U.S. Patent Application No. 60/701,186 filed 20 Jul 2005 (HHS Reference No. E-042-2005/0-US-01).

Licensing Contact: Michael Shmilovich; 301/435-5019; shmilovm@mail.nih.gov.

Available for licensing and commercial development is a millifluidic bioreactor system for culturing, testing, and fabricating natural or engineered cells and tissues. The system consists of a millifluidic bioreactor device and methods for sample culture. Biologic samples that can be utilized include cells, scaffolds, tissue explants, and organoids. The system is microchip controlled and can be operated in closed-loop, providing controlled delivery of medium and biofactors in a sterile temperature regulated environment under tabletop or incubator use. Sample perfusion can be applied periodically or continuously, in a bidirectional or unidirectional manner, and medium re-circulated.

An advantage of the millifluidic bioreactor: The device is small in size, and of conventional culture plate format. A second advantage: The millifluidic bioreactor provides the ability to grow larger biologic samples than microfluidic systems, while utilizing smaller medium volumes than conventional bioreactors. The bioreactor culture chamber is adapted to contain sample volumes on a milliliter scale (10 μL to 1 mL, with a preferred size of 100 μL), significantly larger than chamber volumes in microfluidic systems (on the order of 1 μL). Typical microfluidic systems are designed to culture cells and not larger tissue samples. A third advantage: the integrated medium reservoirs and bioreactor chamber design provide for, (1) concentration of biofactors produced by the biologic sample, and (2) the use of smaller amounts of exogenous biofactor supplements in the culture medium. The local medium volume (within the vicinity of the sample) is less than twice the sample volume. The total medium volume utilized is small, preferably 2 ml, significantly smaller than conventional bioreactors (typically using 500-1000 mL). A fourth advantage: the bioreactor device provides for real-time monitoring of sample growth and function in response to stimuli via an optical port and embedded sensors. The optical port provides for microscopy and spectroscopy measurements using transmitted, reflected, or emitted (e.g. fluorescent, chemiluminescent) light. The embedded sensors provide for measurement of culture fluid pressure and sample pH, oxygen tension, and temperature. A fifth advantage: The bioreactor is capable of providing external stimulation to the biologic sample, including mechanical forces (e.g. fluid shear, hydrostatic pressure, matrix compression, microgravity via clinorotation), electrical fields (e.g. AC currents), and biofactors (e.g. growth factors, cytokines) while monitoring their effect in real-time via the embedded sensors, optical port, and medium sampling port. A sixth advantage: monitoring of biologic sample response to external stimulation can be performed non-invasively and non-destructively through the embedded sensors, optical port, and medium sampling port. Testing of tissue mechanical and electrical properties (e.g. stiffness, permeability, loss modulus via stress or creep test, electrical impedance) can be performed over time without removing the sample from the bioreactor device. A seventh advantage: the bioreactor sample chamber can be constructed with multiple levels fed via separate perfusion circuits, facilitating the growth and production of multiphasic tissues.

In addition to licensing, the technology is available for further development through collaborative research opportunities with the inventors.

Universally Applicable Technology for Inactivation of Enveloped Viruses and Other Pathogenic Microorganisms for Vaccine Development

Yossef Raviv et al. (NCI).

U.S. Provisional Application filed 22 Mar 2004 (HHS Reference No. E-303-2003/0-US-01);

PCT Application filed 22 Mar 2005 (HHS Reference No. E-303-2003/0-PCT-02).

Licensing Contact: Susan Ano; 301/435-5515; anos@mail.nih.gov.

The current technology describes the inactivation of viruses, parasites, and tumor cells by the hydrophobic photoactivatable compound, 1,5-iodoanpthylazide (INA). This non-toxic compound will diffuse into the lipid bilayer of biological membranes and upon irradiation with light will bind to proteins and lipids in this domain thereby inactivating fusion of enveloped viruses with their corresponding target cells. Furthermore, the selective binding of INA to protein domains in the lipid bilayer preserves the structural integrity and therefore immunogenicity of proteins on the exterior of the inactivated virus. This technology is universally applicable to other microorganisms that are surrounded by biological membranes like parasites and tumor cells. The broad utility of the subject technology has been demonstrated using influenza virus, HIV, SIV and Ebola virus as representative examples. The inactivation approach for vaccine development presented in this technology provides for a safe, non-infectious formulation for vaccination against the corresponding agent. Vaccination studies demonstrated that mice immunized with INA inactivated influenza virus mounted a heterologous protective immune response against lethal doses of influenza virus. This technology and its application to HIV are further described in the Journal of Virology 2005, volume 29, pp 12394-12400.

In addition to licensing, the technology is available for further studies in application to vaccine development in animal models through collaborative research opportunities with the inventors. Please contact Dr. Yossef Raviv at yraviv@ncifcrf.gov.

Dated: January 18, 2006.
Steven M. Ferguson,
Director, Division of Technology Development and Transfer, Office of Technology Transfer, National Institutes of Health.

[FR Doc. E6-909 Filed 1-24-06; 8:45 am]

BILLING CODE 4167-01-P